DEPARTMENT OF HEALTH AND HUMAN SERVICES

Centers for Disease Control and Prevention

[30Day-11-0729]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Customer Surveys Generic Clearance for the National Center for Health Statistics (0920-0729 exp. 6/30/2009)—Reinstatement—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on “the extent and nature of illness and disability of the population of the United States.” This is a reinstatement request for a generic approval from OMB to conduct customer surveys over the next three years.

As part of a comprehensive program, the National Center for Health Statistics (NCHS) plans to continue to assess its customers' satisfaction with the content, quality and relevance of the information it produces. NCHS will conduct voluntary customer surveys to assess strengths in agency products and services and to evaluate how well it addresses the emerging needs of its data users. Results of these surveys will be used in future planning initiatives.

The data will be collected using a combination of methodologies appropriate to each survey. These may include: Evaluation forms, mail surveys, focus groups, automated and electronic technology (e.g., e-mail, Web-based surveys), and telephone surveys. Systematic surveys of several groups will be folded into the program. Among these are Federal customers and policy makers, State and local officials who rely on NCHS data, the broader educational, research, and public health community, and other data users. Respondents may include data users who register for and/or attend NCHS sponsored conferences; persons who access the NCHS Web site and the detailed data available through it; consultants; and others. Respondent data items may include (in broad categories) information regarding respondent's gender, age, occupation, affiliation, location, etc., to be used to characterize responses only. Other questions will attempt to obtain information that will characterize the respondents' familiarity with and use of NCHS data, their assessment of data content and usefulness, general satisfaction with available services and products, and suggestions for improvement of surveys, services and products.

The resulting information will be for NCHS internal use. There is no cost to respondents other than their time to participate in the survey. The total estimated annualized burden is 1,640 hours.

Estimated Annualized Burden Table
Type of survey | Respondents | Number of respondents | Number of responses/ respondent | Average burden/response (in hours)
Questionnaire for conference registrants/attendees | Public/private researchers, Consultants, and others | 3,000 | 1 | 10/60
Focus groups | Public/private researchers, Consultants, and others | 240 | 1 | 1
Web-based | Public/private researchers, Consultants, and others | 3,600 | 1 | 10/60
Other customer surveys | Public/private researchers, Consultants, and others | 1,200 | 1 | 15/60

Dated: January 26, 2011.
Carol E. Walker,
Acting Reports Clearance Officer, Centers for Disease Control and Prevention.

[FR Doc. 2011-2420 Filed 2-2-11; 8:45 am]

BILLING CODE 4163-18-P